DEPARTMENT OF COMMERCE

National Oceanic and Atmospheric Administration

[I.D. 052302B]

Endangered Species; File No. 1174

AGENCY: National Marine Fisheries Service (NMFS), National Oceanic and Atmospheric Administration (NOAA), Commerce.

ACTION: Issuance of permit modification.

SUMMARY: Notice is hereby given that Harold Brundage III, Environmental Research and Consulting, Inc., 112 Commons Court, Chadds Ford, PA 19317, has been issued a permit to take endangered species for purposes of scientific research.

ADDRESSES: The permit and related documents are available for review upon written request or by appointment in the following office(s):

Permits, Conservation and Education Division, Office of Protected Resources, NMFS, 1315 East-West Highway, Room 13705, Silver Spring, MD 20910; phone (301)713--289; fax (301)713-0376.

FOR FURTHER INFORMATION CONTACT: Lillian Becker, (301)713-2289.

SUPPLEMENTARY INFORMATION: On October 16, 2001, notice was published in the Federal Register (66 FR 200) that a request for scientific research Permit No. 1174 be modified to allow for the implantation of sonic transmitters in shortnose sturgeon. The requested permits have been issued under the authority of the Endangered Species Act of 1973, as amended (ESA; 16 U.S.C. 1531 et seq.) and the regulations governing the taking, importing, and exporting of endangered and threatened species (50 CFR parts 222-226).

Issuance of this permit, as required by the ESA, was based on a finding that such permit (1) was applied for in good faith, (2) will not operate to the disadvantage of the endangered species which is the subject of this permit, and (3) is consistent with the purposes and policies set forth in section 2 of the ESA.

Dated: June 10, 2002.
Eugene Nitta,
Acting Chief, Permits, Conservation and Education Division, Office of Protected Resources, National Marine Fisheries Service.

[FR Doc. 02-15080 Filed 6-13-02; 8:45 am]

BILLING CODE 3510-22-S